DEPARTMENT OF DEFENSE

48 CFR Parts 204, 208, 209, 212, 213, 215, 217, 219, 222, 223, 225, 227, 233, 235, 236, 237, 242, 247, 252, and 253 and Appendix F to Chapter 2

[DFARS Case 2001-D003]

Defense Federal Acquisition Regulation Supplement; Geographic Use of the Term “United States”

AGENCY: Department of Defense (DoD).

ACTION: Final rule.

SUMMARY: DoD is amending the Defense Federal Acquisition Regulation Supplement (DFARS) to standardize the use of the term “United States” and associated geographic terms, in accordance with definitions found in the Federal Acquisition Regulation.

EFFECTIVE DATE: June 21, 2005.

FOR FURTHER INFORMATION CONTACT: Ms. Amy Williams, Defense Acquisition Regulations Council, OUSD (AT&L) DPAP (DAR), IMD 3C132, 3062 Defense Pentagon, Washington, DC 20301-3062. Telephone (703) 602-0328; facsimile (703) 602-0350. Please cite DFARS Case 2001-D003.

SUPPLEMENTARY INFORMATION:

A. Background

This final rule amends the DFARS to standardize the use of geographic terms, for consistency with the definitions of the following terms found in section 2.101 of the Federal Acquisition Regulation: “United States”; “contiguous United States”; “customs territory of the United States”; and “outlying areas”.

DoD published a proposed rule at 69 FR 65121 on November 10, 2004. DoD received no comments on the proposed rule. DoD has adopted the proposed rule as a final rule, with the following exceptions:

○ The proposed changes to DFARS 204.670-1 and 253.204-70 are not included in the final rule. These changes will be addressed in a separate DFARS case relating to the DD Form 350, Individual Contracting Action Report.

○ The proposed change to DFARS 236.602-1(a)(i)(6)(A)(2) is not included in the final rule. This text was removed from the DFARS in the final rule published at 69 FR 75000 on December 15, 2004.

○ The proposed revision to the clause at DFARS 252.225-7039, Restriction on Acquisition of Totally Enclosed Lifeboat Survival Systems, is not included in the final rule. This clause was proposed for deletion in the proposed rule published at 70 FR 14628 on March 23, 2005.

○ The final rule includes technical amendments at DFARS 247.571 to update cross-references.

○ The final rule includes changes to the clause at DFARS 252.212-7001, Contract Terms and Conditions Required to Implement Statutes or Executive Orders Applicable to Defense Acquisitions of Commercial Items, to update referenced clause dates.

○ The final rule reflects the revisions to DFARS 252.225-7003 and 252.225-7004, and the addition of DFARS 252.225-7006, included in the final rule published at 70 FR 20838 on April 22, 2005.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the rule standardizes DFARS terminology, but makes no substantive change to policy.

C. Paperwork Reduction Act

The Paperwork Reduction Act does not apply because the rule does not impose any information collection requirements that require the approval of the Office of Management and Budget under 44 U.S.C. 3501, et seq.

List of Subjects in 48 CFR Parts 204, 208, 209, 212, 213, 215, 217, 219, 222, 223, 225, 227, 233, 235, 236, 237, 242, 247, 252, and 253

Government procurement.

Michele P. Peterson,
Editor, Defense Acquisition Regulations System.

Therefore, 48 CFR Parts 204, 208, 209, 212, 213, 215, 217, 219, 222, 223, 225, 227, 233, 235, 236, 237, 242, 247, 252, and 253 and Appendix F to Chapter 2 are amended as follows:

1. The authority citation for 48 CFR Parts 204, 208, 209, 212, 213, 215, 217, 219, 222, 223, 225, 227, 233, 235, 236, 237, 242, 247, 252, and 253 and Appendix F to subchapter I continues to read as follows:

Authority: 41 U.S.C. 421 and 48 CFR Chapter 1.

PART 204—ADMINISTRATIVE MATTERS

2. Section 204.904 is amended by revising paragraph (1)(v) to read as follows:

204.904 Reporting payment information to the IRS.

(1) * * *

(v) Any contract with a State, the District of Columbia, or an outlying area of the United States; or a political subdivision, agency, or instrumentality of any of the foregoing;

* * * * *

PART 208—REQUIRED SOURCES OF SUPPLIES AND SERVICES

3. Section 208.7002 is amended by revising paragraph (a)(3) and paragraph (a)(4) introductory text to read as follows:

208.7002 Assignment authority.

(a) * * *

(3) Outside the contiguous United States, by the Unified Commanders; and

(4) For acquisitions to be made in the contiguous United States for commodities not assigned under paragraphs (a)(1), (2), or (3) of this section, by agreement of agency heads (10 U.S.C. 2311).

* * * * *

PART 209—CONTRACTOR QUALIFICATIONS

4. Section 209.406-2 is amended by revising paragraph (a) introductory text to read as follows:

209.406-2 Causes for debarment.

(a) Any person shall be considered for debarment if criminally convicted of intentionally affixing a label bearing a “Made in America” inscription to any product sold in or shipped to the United States or its outlying areas that was not made in the United States or its outlying areas (10 U.S.C. 2410f).

* * * * *

PART 212—ACQUISITION OF COMMERCIAL ITEMS

5. Section 212.602 is amended by revising paragraph (b)(ii) to read as follows:

212.602 Streamlined evaluation of offers.

(b) * * *

(ii) For the acquisition of transportation in supply contracts that will include a significant requirement for transportation of items outside the contiguous United States, also evaluate offers in accordance with the criterion at 247.301-71.

* * * * *

PART 213—SIMPLIFIED ACQUISITION PROCEDURES

6. Section 213.270 is amended by revising paragraph (c)(1) to read as follows:

213.270 Use of the Governmentwide commercial purchase card.

* * * * *

(c) * * *

(1) The place of performance is entirely outside the United States and its outlying areas.

* * * * *

7. Section 213.307 is amended in paragraph (b)(i)(B)(2) by revising the first sentence to read as follows:

213.307 Forms.

* * * * *

(b)(i) * * *

(B) * * *

(2) Classified acquisitions when the purchase is made within the United States or its outlying areas. * * *

* * * * *

PART 215—CONTRACTING BY NEGOTIATION

8. Section 215.404-76 is amended by revising paragraph (d) to read as follows:

215.404-76 Reporting profit and fee statistics.

* * * * *

(d) Contracting offices outside the United States and its outlying areas are exempt from reporting.

* * * * *

PART 217—SPECIAL CONTRACTING METHODS

9. Section 217.7005 is revised to read as follows:

217.7005 Solicitation provision.

Use the provision at 252.217-7002, Offering Property for Exchange, when offering nonexcess personal property for exchange. Allow a minimum of 14 calendar days for the inspection period in paragraph (b) of the clause if the exchange property is in the contiguous United States. Allow at least 21 calendar days outside the contiguous United States.

10. Section 217.7102 is amended as follows:

a. By revising paragraph (a) introductory text;

b. In paragraph (a)(2), in the first sentence, by removing “Which possess” and adding in its place “Possess”; and

c. By revising paragraph (b). The revised text reads as follows:

217.7102 General.

(a) Activities shall enter into master agreements for repair and alteration of vessels with all prospective contractors located within the United States or its outlying areas, which—

* * * * *

(b) Activities may use master agreements in work with prospective contractors located outside the United States and its outlying areas.

* * * * *

11. Section 217.7103-3 is amended by revising paragraph (a) introductory text to read as follows:

217.7103-3 Solicitations for job orders.

(a) When a requirement arises within the United States or its outlying areas for the type of work covered by the master agreement, solicit offers from prospective contractors that—

* * * * *

PART 219—SMALL BUSINESS PROGRAMS

12. Section 219.800 is amended in paragraph (a) by revising the fourth sentence to read as follows:

219.800 General.

(a) * * * Consistent with the provisions of this subpart, this authority is hereby redelegated to DoD contracting officers within the United States or its outlying areas, to the extent that it is consistent with any dollar or other restrictions established in individual warrants. * * *

* * * * *

PART 222—APPLICATION OF LABOR LAWS TO GOVERNMENT ACQUISITIONS

13. Section 222.7201 is amended by revising paragraph (a) to read as follows:

222.7201 Contract clauses.

(a) Use the clause at 252.222-7002, Compliance with Local Labor Laws (Overseas), in solicitations and contracts for services or construction to be performed outside the United States and its outlying areas.

* * * * *

PART 223—ENVIRONMENT, CONSERVATION, OCCUPATIONAL SAFETY, AND DRUG-FREE WORKPLACE

14. Section 223.570-4 is amended by revising paragraph (b)(2) to read as follows:

223.570-4 Contract clause.

* * * * *

(b) * * *

(2) When performance or partial performance will be outside the United States and its outlying areas, unless the contracting officer determines such inclusion to be in the best interest of the Government; or

* * * * *

PART 225—FOREIGN ACQUISITION

15. Section 225.7014 is revised to read as follows:

225.7014 Restriction on overseas military construction.

For restriction on award of military construction contracts to be performed in the United States outlying areas in the Pacific and on Kwajalein Atoll, or in countries bordering the Arabian Gulf, see 236.274(a).

PART 227—PATENTS, DATA, AND COPYRIGHTS

227.7103-17 [Amended]

16. Section 227.7103-17 is amended in paragraph (b) in the second sentence, and in paragraph (c), by removing “possessions” and adding in its place “outlying areas”.

227.7203-17 [Amended]

17. Section 227.7203-17 is amended in paragraph (b) in the second sentence, and in paragraph (c), by removing “possessions” and adding in its place “outlying areas”.

PART 233—PROTESTS, DISPUTES, AND APPEALS

18. Section 233.215-70 is revised to read as follows:

233.215-70 Additional contract clause.

Use the clause at 252.233-7001, Choice of Law (Overseas), in solicitations and contracts when contract performance will be outside the United States and its outlying areas, unless otherwise provided for in a government-to-government agreement.

PART 235—RESEARCH AND DEVELOPMENT CONTRACTING

19. Section 235.071 is amended by revising paragraph (a) to read as follows:

235.071 Additional contract clauses.

(a) Use the clause at 252.235-7002, Animal Welfare, or one substantially the same, in solicitations and contracts awarded in the United States or its outlying areas involving research on live vertebrate animals.

* * * * *

PART 236—CONSTRUCTION AND ARCHITECT-ENGINEER CONTRACTS

236.274 [Amended]

20. Section 236.274 is amended in paragraph (a) introductory text by removing “territories and possessions” and adding in its place “outlying areas”.

236.570 [Amended]

21. Section 236.570 is amended in paragraph (c)(1) by removing “territory or possession” and adding in its place “outlying area”.

PART 237—SERVICE CONTRACTING

22. Section 237.102-70 is amended by revising paragraph (a)(1) to read as follows:

237.102-70 Prohibition on contracting for firefighting or security-guard functions.

(a) * * *

(1) The contract is to be carried out at a location outside the United States and its outlying areas at which members of the armed forces would have to be used for the performance of firefighting or security-guard functions at the expense of unit readiness;

* * * * *

23. Section 237.7301 is amended by revising paragraph (a)(1) to read as follows:

237.7301 Definitions.

* * * * *

(a) * * *

(1) Is located in the United States or its outlying areas;

* * * * *

PART 242—CONTRACT ADMINISTRATION AND AUDIT SERVICES

24. Section 242.1402 is amended by revising the section heading to read as follows:

242.1402 Volume movements within the contiguous United States.

* * * * *

PART 247—TRANSPORTATION

25. Section 247.571 is amended as follows:

a. In paragraphs (a)(1), (2), and (3), by removing “247.572-1(d)” and adding in its place “247.572-1(c)”; and

b. By revising paragraph (c)(1) introductory text to read as follows:

247.571 Policy.

* * * * *

(c)(1) Any vessel used under a time charter contract for the transportation of supplies under this section shall have any reflagging or repair work, as defined in the clause at 252.247-7025, Reflagging or Repair Work, performed in the United States or its outlying areas, if the reflagging or repair work is performed—

* * * * *

PART 252—SOLICITATION PROVISIONS AND CONTRACT CLAUSES

26. Section 252.209-7002 is amended by revising the clause date and paragraph (a)(3) to read as follows:

252.209-7002 Disclosure of ownership or control by a foreign government.

* * * * *

Disclosure of Ownership or Control by a Foreign Government

(JUN 2005)

(a) * * *

(3) Foreign government includes the state and the government of any country (other than the United States and its outlying areas) as well as any political subdivision, agency, or instrumentality thereof.

* * * * *

27. Section 252.212-7000 is amended as follows:

a. By revising the clause date to read “(JUN 2005)”;

b. By redesignating paragraph (a)(2) as paragraph (a)(3); and

c. By adding a new paragraph (a)(2) to read as follows:

252.212-7000 Offeror representations and certifications—Commercial Items.

* * * * *

(a) * * *

(2) United States means the 50 States, the District of Columbia, outlying areas, and the outer Continental Shelf as defined in 43 U.S.C. 1331.

* * * * *

28. Section 252.212-7001 is amended as follows:

a. By revising the clause date to read “(JUN 2005)”; and

b. In paragraph (b) by revising entries “252.225-7001” through “252.225-7038” to read as follows:

252.212-7001 Contract Terms and Conditions required to implement statutes or executive orders applicable to defense acquisitions of commercial items.

* * * * *

(b) * * *

___ | 252.225-7001 | Buy American Act and Balance of Payments Program (JUN 2005) (41 U.S.C. 10a-10d, E.O. 10582).
___ | 252.225-7012 | Preference for Certain Domestic Commodities (JUN 2004) (10 U.S.C. 2533a).
___ | 252.225-7014 | Preference for Domestic Specialty Metals (JUN 2005) (10 U.S.C. 2533a).
___ | 252.225-7015 | Restriction on Acquisition of Hand or Measuring Tools (JUN 2005) (10 U.S.C. 2533a).
___ | 252.225-7016 | Restriction on Acquisition of Ball and Roller Bearings (JUN 2005) (___ Alternate I) (APR 2003) (10 U.S.C. 2534 and Section 8099 of Public Law 104-61 and similar sections in subsequent DoD appropriations acts).
___ | 252.225-7021 | Trade Agreements (JUN 2005) (19 U.S.C. 2501-2518 and 19 U.S.C. 3301 note).
___ | 252.225-7027 | Restriction on Contingent Fees for Foreign Military Sales (APR 2003) (22 U.S.C. 2779).
___ | 252.225-7028 | Exclusionary Policies and Practices of Foreign Governments (APR 2003) (22 U.S.C. 2755).
___ | 252.225-7036 | Buy American Act—Free Trade Agreements—Balance of Payments Program (JUN 2005) (___ Alternate I) (JAN 2005) (41 U.S.C. 10a-10d and 19 U.S.C. 3301 note).
___ | 252.225-7038 | Restriction on Acquisition of Air Circuit Breakers (JUN 2005) (10 U.S.C. 2534(a)(3)).

* * * * *

29. Section 252.225-7000 is amended by revising the clause date and paragraph (a) to read as follows:

252.225-7000 Buy American Act—Balance of Payments Program Certificate.

* * * * *

Buy American Act—Balance of Payments Program Certificate

(JUN 2005)

(a) Definitions. Domestic end product, foreign end product, qualifying country, qualifying country end product, and United States have the meanings given in the Buy American Act and Balance of Payments Program clause of this solicitation.

* * * * *

30. Section 252.225-7001 is amended by revising the clause date and adding paragraph (a)(8) to read as follows:

252.225-7001 Buy American Act and Balance of Payments Program.

* * * * *

Buy American Act and Balance of Payments Program (JUN 2005)

(a) * * *

(8) United States means the 50 States, the District of Columbia, and outlying areas.

* * * * *

31. Section 252.225-7003 is amended as follows:

a. By revising the clause date to read “(JUN 2005)”;

b. By redesignating paragraphs (a) through (d) as paragraphs (b) through (e) respectively; and

c. By adding a new paragraph (a) to read as follows:

252.225-7003 Report of intended performance outside the United States and Canada—Submission with offer.

* * * * *

(a) Definition. United States, as used in this provision, means the 50 States, the District of Columbia, and outlying areas.

* * * * *

32. Section 252.225-7004 is amended as follows:

a. By revising the clause date to read “(JUN 2005)”;

b. By redesignating paragraphs (a) through (c) as paragraphs (b) through (d) respectively; and

c. By adding a new paragraph (a) to read as follows:

252.225-7004 Report of intended performance outside the United States and Canada—Submission after award.

* * * * *

(a) Definition. United States, as used in this clause, means the 50 States, the District of Columbia, and outlying areas.

* * * * *

33. Section 252.225-7005 is amended as follows:

a. By revising the clause date to read “(JUN 2005)”;

b. By redesignating paragraphs (a) through (c) as paragraphs (b) through (d) respectively;

c. In newly designated paragraph (c)(3)(iv) by removing “(b)” and adding “(c)” in its place; and

d. By adding a new paragraph (a) to read as follows:

252.225-7005 Identification of expenditures in the United States.

* * * * *

(a) Definition. United States, as used in this clause, means the 50 States, the District of Columbia, and outlying areas.

* * * * *

34. Section 252.225-7006 is amended as follows:

a. By revising the clause date to read “(JUN 2005)”;

b. By redesignating paragraphs (a) through (e) as paragraphs (b) through (f) respectively;

c. In newly designated paragraph (b), in the introductory text, by removing “paragraph (b)” and adding in its place “paragraph (c)”;

d. In newly designated paragraph (f)(3), by removing “(a) through (d)” and adding in its place “(b) through (e)”; and

e. By adding a new paragraph (a) to read as follows:

252.225-7006 Quarterly reporting of actual contract performance outside the United States.

* * * * *

(a) Definition. United States, as used in this clause, means the 50 States, the District of Columbia, and outlying areas.

* * * * *

35. Section 252.225-7011 is revised to read as follows:

252.225-7011 Restriction on acquisition of supercomputers.

As prescribed in 225.7012-3, use the following clause:

Restriction on Acquisition of Supercomputers (JUN 2005)

Supercomputers delivered under this contract shall be manufactured in the United States or its outlying areas.

(End of clause)

36. Section 252.225-7013 is amended by revising the clause date, paragraph (a)(1), paragraph (b) introductory text, paragraph (f)(1)(i)(A), and the first sentence of paragraph (h) introductory text to read as follows:

252.225-7013 Duty-free entry.

* * * * *

Duty-Free Entry (JUN 2005)

(a) * * *

(1) Customs territory of the United States means the 50 States, the District of Columbia, and Puerto Rico.

* * * * *

(b) Except as provided in paragraph (i) of this clause, or unless supplies were imported into the customs territory of the United States before the date of this contract or the applicable subcontract, the price of this contract shall not include any amount for duty on—

* * * * *

(f) * * *

(1)(i) * * *

(A) Prepare any customs forms required for the entry of foreign supplies into the customs territory of the United States in connection with this contract; and

* * * * *

(h) The Contractor shall notify the Administrative Contracting Officer (ACO) in writing of any purchase of eligible products or qualifying country supplies to be accorded duty-free entry, that are to be imported into the customs territory of the United States for delivery to the Government or for incorporation in end items to be delivered to the Government. * * *

* * * * *

37. Section 252.225-7014 is amended by revising the clause date and paragraph (b) to read as follows:

252.225-7014 Preference for domestic specialty metals.

* * * * *

Preference for Domestic Specialty Metals (JUN 2005)

* * * * *

(b) Any specialty metals incorporated in articles delivered under this contract shall be melted in the United States or its outlying areas.

* * * * *

38. Section 252.225-7015 is revised to read as follows:

252.225-7015 Restriction on acquisition of hand or measuring tools.

As prescribed in 225.7002-3(c), use the following clause:

Restriction on Acquisition of Hand or Measuring Tools (JUN 2005)

Hand or measuring tools delivered under this contract shall be produced in the United States or its outlying areas.

(End of clause)

39. Section 252.225-7016 is amended by revising the clause date and paragraph (b) to read as follows:

252.225-7016 Restriction on Acquisition of Ball and Roller Bearings.

* * * * *

Restriction on Acquisition of Ball and Roller Bearings (JUN 2005)

* * * * *

(b) Except as provided in paragraph (c) of this clause, all ball and roller bearings and ball and roller bearing components (including miniature and instrument ball bearings) delivered under this contract, either as end items or components of end items, shall be wholly manufactured in the United States, its outlying areas, or Canada. Unless otherwise specified, raw materials, such as preformed bar, tube, or rod stock and lubricants, need not be mined or produced in the United States, its outlying areas, or Canada.

* * * * *

40. Section 252.225-7018 is amended by revising the clause date, paragraph (b) in the second sentence, and paragraph (c)(1) to read as follows:

252.225-7018 Notice of prohibition of certain contracts with foreign entities for the conduct of ballistic missile defense research, development, test, and evaluation.

* * * * *

Notice of Prohibition of Certain Contracts With Foreign Entities for the Conduct of Ballistic Missile Defense Research, Development, Test, and Evaluation (JUN 2005)

* * * * *

(b) * * * However, foreign governments and firms are encouraged to submit offers, since this provision is not intended to restrict access to unique foreign expertise if the contract will require a level of competency unavailable in the United States or its outlying areas.

(c) * * *

(1) The contract will be performed within the United States or its outlying areas;

* * * * *

41. Section 252.225-7019 is amended by revising the clause date and paragraph (a) to read as follows:

252.225-7019 Restriction on acquisition of anchor and mooring chain.

* * * * *

Restriction on Acquisition of Anchor and Mooring Chain(JUN 2005)

(a) Welded shipboard anchor and mooring chain, four inches or less in diameter, delivered under this contract—

(1) Shall be manufactured in the United States or its outlying areas, including cutting, heat treating, quality control, testing, and welding (both forging and shot blasting process); and

(2) The cost of the components manufactured in the United States or its outlying areas shall exceed 50 percent of the total cost of components.

* * * * *

42. Section 252.225-7021 is amended by revising the clause date and paragraph (a)(11) to read as follows:

252.225-7021 Trade agreements.

* * * * *

Trade Agreements (JUN 2005)

(a) * * *

(11) United States means the 50 States, the District of Columbia, and outlying areas.

* * * * *

43. Section 252.225-7022 is amended by revising the clause date and paragraph (b) to read as follows:

252.225-7022 Restriction on acquisition of polyacrylonitrile (PAN) carbon fiber.

* * * * *

Restriction on Acquisition of Polyacrylonitrile (PAN) Carbon Fiber (JUN 2005)

* * * * *

(b) PAN carbon fibers contained in the end product shall be manufactured in the United States, its outlying areas, or Canada using PAN precursor produced in the United States, its outlying areas, or Canada.

* * * * *

44. Section 252.225-7023 is amended by revising the clause date and paragraph (a) to read as follows:

252.225-7023 Restriction on acquisition of vessel propellers.

* * * * *

Restriction on Acquisition of Vessel Propellers (JUN 2005)

(a) Except as provided in paragraph (b) of this clause, the Contractor shall deliver under this contract, whether as end items or components of end items, vessel propellers—

(1) Manufactured in the United States, its outlying areas, or Canada; and

(2) For which all component castings were poured and finished in the United States, its outlying areas, or Canada.

* * * * *

45. Section 252.225-7025 is amended by revising the clause date and paragraph (a)(1) introductory text to read as follows:

252.225-7025 Restriction on acquisition of forgings.

* * * * *

Restriction on Acquisition of Forgings (JUN 2005)

(a) * * *

(1) Domestic manufacture means manufactured in the United States, its outlying areas, or Canada if the Canadian firm—

* * * * *

46. Section 252.225-7031 is amended as follows:

a. By revising the clause date to read “(JUN 2005)”;

b. By redesignating paragraph (a)(2) as paragraph (a)(3); and

c. By adding a new paragraph (a)(2) to read as follows:

252.225-7031 Secondary Arab boycott of Israel.

* * * * *

(a) * * *

(2) United States means the 50 States, the District of Columbia, outlying areas, and the outer Continental Shelf as defined in 43 U.S.C. 1331.

* * * * *

47. Section 252.225-7036 is amended by revising the clause date and paragraph (a)(9) to read as follows:

252.225-7036 Buy American Act—Free Trade Agreements—Balance of Payments Program.

* * * * *

Buy American Act—Free Trade Agreements—Balance of Payments Program (JUN 2005)

(a) * * *

(9) United States means the 50 States, the District of Columbia, and outlying areas.

* * * * *

48. Section 252.225-7037 is revised to read as follows:

252.225-7037 Evaluation of Offers for Air Circuit Breakers.

As prescribed in 225.7006-4(a), use the following provision:

Evaluation of Offers for Air Circuit Breakers (JUN 2005)

(a) The offeror shall specify, in its offer, any intent to furnish air circuit breakers that are not manufactured in the United States or its outlying areas, Canada, or the United Kingdom.

(b) The Contracting Officer will evaluate offers by adding a factor of 50 percent to the offered price of air circuit breakers that are not manufactured in the United States or its outlying areas, Canada, or the United Kingdom.

(End of provision)

49. Section 252.225-7038 is revised to read as follows:

252.225-7038 Restriction on Acquisition of Air Circuit Breakers.

As prescribed in 225.7006-4(b), use the following clause:

Restriction on Acquisition of Air Circuit Breakers (JUN 2005)

Unless otherwise specified in its offer, the Contractor shall deliver under this contract air circuit breakers manufactured in the United States or its outlying areas, Canada, or the United Kingdom.

(End of clause)

50. Section 252.225-7043 is amended as follows:

a. By revising the clause date to read “(JUN 2005)”;

b. By redesignating paragraphs (a) through (c) as paragraphs (b) through (d) respectively;

c. In newly designated paragraph (b), in the introductory text, by removing “paragraph (b)” and adding in its place “paragraph (c)”; and

d. By adding a new paragraph (a) to read as follows:

252.225-7043 Antiterrorism/force protection policy for defense contractors outside the United States.

* * * * *

(a) Definition. United States, as used in this clause, means, the 50 States, the District of Columbia, and outlying areas.

* * * * *

51. Section 252.225-7044 is amended as follows:

a. By revising the clause date to read “(JUN 2005)”; and

b. In paragraph (a) by revising the definition of “United States” to read as follows:

252.225-7044 Balance of Payments Program—Construction Material.

* * * * *

(a) * * *

“United States” means the 50 States, the District of Columbia, and outlying areas.

* * * * *

52. Section 252.225-7045 is amended as follows:

a. By revising the clause date to read “(JUN 2005)”; and

b. In paragraph (a) by revising the definition of “United States” to read as follows:

252.225-7045 Balance of Payments Program—Construction Material Under Trade Agreements.

* * * * *

(a) * * *

United States means the 50 States, the District of Columbia, and outlying areas.

* * * * *

53. Section 252.247-7025 is amended by revising the clause date and paragraph (b) introductory text to read as follows:

252.247-7025 Reflagging or Repair Work.

Reflagging or Repair Work (JUN 2005)

* * * * *

(b) Requirement. Unless the Secretary of Defense waives this requirement, reflagging or repair work shall be performed in the United States or its outlying areas, if the reflagging or repair work is performed—

* * * * *

PART 253—FORMS

54. Section 253.213-70 is amended by revising paragraph (a)(2) to read as follows:

253.213-70 Instructions for completion of DD Form 1155.

(a) * * *

(2) The contractor is located in the contiguous United States or Canada.

* * * * *

Appendix F to Chapter 2—Material Inspection and Receiving Report F-104 [Amended]

55. Appendix F to Chapter 2 is amended in Part 1, Section F-104, as follows:

a. In paragraph (a)(5)(i) introductory text by removing “Continental United States” and adding in its place “Contiguous United States”; and

b. In paragraph (a)(5)(ii), in the first sentence, by removing “continental U.S.” and adding in its place “contiguous United States”.

[FR Doc. 05-12100 Filed 6-20-05; 8:45 am]

BILLING CODE 5001-08-P